NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by February 5, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-030

1. Applicant: Sarah Eppley, Portland State University, Department of Biology, PO Box 751, Portland, OR 97207.

Activity for Which Permit Is Requested

Enter Antarctic Specially Protected Areas (ASPAs), sample collection and import into the USA. The applicant proposes to collect moss and soil samples from ASPAs to investigate how warming will affect Antarctic moss terrestrial ecosystems. Moss and soil samples, up to 3 cm deep, would be collected using a metal 2 cubic centimeter coring device. Up to 180 samples total from each of seven different moss species and up to 400 total soil samples will be collected. Sample collection would require access to APSA in the South Shetland Islands. The samples would be imported back to the home university.

Location

ASPA 125, Fildes Peninsula, King George Island, including Zone 125c, Glacier Dome Belligshausen (Collins Glacier); ASPA 150, Ardley Island, Maxwell Bay, Antarctic Peninsula; ASPA 126, Byers Peninsula, Livingston Island.

Dates of Permitted Activities

January 30-June 30, 2018.

Nadene G. Kennedy,
Polar Coordination Specialist, Office of Polar Programs.

[FR Doc. 2018-00009 Filed 1-4-18; 8:45 am]

BILLING CODE 7555-01-P